DEPARTMENT OF AGRICULTURE

Food and Nutrition Service

Agency Information Collection Activities: Proposed Collection; Comment Request—Child and Adult Care Food Program (CACFP) Family Day Care Home Meal Claim Feasibility Study

AGENCY: Food and Nutrition Service (FNS), USDA.

ACTION: Notice and request for comments.

SUMMARY: In accordance with the Paperwork Reduction Act of 1995, this notice invites the general public and other public agencies to comment on this proposed information collection. This collection is a new collection for estimating erroneous payments due to meals claimed improperly by family day care home providers participating in the CACFP.

DATES: Written comments must be received on or before February 9, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Veronica Uzoebo, Food and Nutrition Service, U.S. Department of Agriculture, 3101 Park Center Drive, Room 1014, Alexandria, VA 22302. Comments may also be submitted via fax to the attention of Veronica Uzoebo at 703-305-2576 or via email to Veronica.Uzoebo@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information should be directed to Veronica Uzoebo at 703-305-2105.

SUPPLEMENTARY INFORMATION:

Title: Child and Adult Care Food Program (CACFP) Family Day Care Homes Meal Claim Feasibility Study

Form Number: N/A

OMB Number: Not Yet Assigned.

Expiration Date: Not Yet Determined.

Type of Request: New collection.

Abstract: The objective of this feasibility study is to design and test a data collection method that enables FNS to estimate erroneous payments due to meals claimed improperly by family day care home providers participating in the CACFP. Specifically, the study focuses on accurately estimating meals that are claimed but not served.

The study relies on data from four sources: (1) State agencies that administer the program for FNS, (2) sponsors who manage CACFP on behalf of State agencies, (3) providers that operate family day care homes, and (4) parents with children enrolled in a participating provider's facility. State agencies will provide lists of sponsors including administrative information about them. Sponsors will prepare extant administrative records of participating providers. Providers and parents will provide primary data on meal services and child attendance. Providers will report meal service information via a smart phone application (app) or a reporting Web site; parents will report child attendance via text messaging or a reporting Web site. These data, in combination with extant administrative records collected from sponsors, will be used to estimate improper payments.

The study activities subject to this notice include collecting administrative records and meal serving information from 300 providers associated with 15 sponsors in two States.

For a period of one month, providers selected and assigned to the study group will report meal serving times in addition to their regular meal claims for reimbursement purposes; parents whose children are attending these providers' facilities will report the drop-off and pick-up times of their children on a daily basis. Providers selected and assigned to the control group will take part under the business-as-usual condition and will have no direct involvement in the study as their meal claims will be obtained directly from the sponsors.

Providers and parents in the study group will receive study materials with full details of what they will be asked to do. They will also receive contact information to contact the study team for additional questions.

Affected Public: This study includes three respondent groups: State and local government (state agencies), for-profit or non-profit businesses (CACFP sponsors and family day care home providers), and individuals/households (parents of children enrolled in selected family day care homes).

Estimated Number of Respondents: The total estimated respondents is 917 (2 State agencies, 15 sponsors, 150 family day care providers, and 750 parents).

Selected States agencies, sponsors and providers are required to support this federally funded study. Upon FNS's approval of the two States selected for this study, a purposive sample of 15 sponsors will be selected to represent sponsors of varying sizes in urban, suburban, and rural areas.

With each selected sponsor, 20 providers will be randomly selected and evenly assigned to a study or control group, i.e., 10 providers to the study group and the other 10 to the control group. Therefore, there will be a total of 300 providers in the study, i.e., 20 providers per sponsor × 15 sponsors. Since the providers assigned to the control group will not be contacted for this study, the respondents will only include the 150 providers in the study group.

Parents can voluntarily participate in the study if their children attend participating providers' day care homes. Assuming an average of five families per provider, the study group will include an initial sample of 750 parents, i.e., 5 families × 10 providers in the study group × 15 sponsors. Assuming that 20% of these parents refuse to participate in the study or fail to report attendance data on the daily basis during the study month, the final analytic sample include approximately 600 parents, i.e., 750 parents × 20%.

Estimated Frequency of Responses per Respondent: FNS estimates that the frequency of responses per respondent will average an estimated 24 responses per respondent across the entire collection. Each State agency will provide two responses for the study: (1) Attend an orientation conference call, including reading an advance letter and study materials in preparation for the call and any follow-up communication with the study team after the call; and (2) provide requested information about sponsors, including communication regarding the data request and transfer.

Each sponsor will provide four types of responses: (1) Attend a study orientation conference call including reading an advance letter and study materials before the call and any follow-up communication with the study team after the call; (2) provide monthly meal claim data for November 2016, January 2017, and March 2017 (3 times), including communication about the data transfer; (3) provide administrative records for CACFP day care providers including communication about the data transfer; and (4) facilitate study recruitment as needed.

Each day care home provider selected for the study will provide three types of responses: (1) Review an advance letter and study materials to provide requested child enrollment information, including communication about the study and the requested enrollment information; (2) report meal service information via the smart phone app or the reporting Web site (22 times); and (3) facilitate parent recruitment as needed.

Participating parents will provide two types of responses: (1) Review an advanced letter and study materials to decide whether to participate in the study, including communication with the study team about the study; and (2) if they agree to participate, report child attendance via text messages on their personal mobile phone or a reporting Web site (22 times).

Estimated Total Annual Responses: 17,644 (see table below)

Estimated Time per Response: The estimated time of response varies from three minutes to two hours depending on respondent group, as shown in the table below, with an average estimated time of 0.11 hours for respondents and 0.05 hours for non-respondents.

Estimated Total Annual Burden on Respondents: The total public reporting burden for this collection of information is estimated at 1,875.50 hours. The estimated burden for each type of participant is detailed in the table below.

BILLING CODE 3410-30-P

Dated: December 3, 2015.
Audrey Rowe,
Administrator, Food and Nutrition Service.

[FR Doc. 2015-31199 Filed 12-10-15; 8:45 am]

BILLING CODE 3410-30-C